SMALL BUSINESS ADMINISTRATION

[Disaster Declaration # 10137 and # 10138]

Florida Disaster Number FL-00005

AGENCY: Small Business Administration.

ACTION: Amendment 3.

SUMMARY: This is an amendment of the Presidential declaration of a major disaster for the State of Florida (FEMA—1595—DR), dated July 10, 2005.

Incident: Hurricane Dennis.

Incident Period: July 10, 2005 and continuing through July 20, 2005.

DATES: Effective Date: July 20, 2005.

Physical Loan Application Deadline Date: September 8, 2005.

EIDL Loan Application Deadline Date: April 10, 2006.

ADDRESSES: Submit completed loan applications to: U.S. Small Business Administration, Disaster Area Office 3, 14925 Kingsport Road, Fort Worth, TX 76155.

FOR FURTHER INFORMATION CONTACT: A. Escobar, Office of Disaster Assistance, U.S. Small Business Administration, 409 3rd Street, Suite 6050, Washington, DC 20416.

SUPPLEMENTARY INFORMATION: The notice of the President's major disaster declaration for the State of Florida, dated July 10, 2005, is hereby amended to establish the incident period for this disaster as beginning July 10, 2005 and continuing through July 20, 2005.

All other information in the original declaration remains unchanged.

(Catalog of Federal Domestic Assistance Numbers 59002 and 59008)

Herbert L. Mitchell,
Associate Administrator for Disaster Assistance.

[FR Doc. 05-15421 Filed 8-3-05; 8:45 am]

BILLING CODE 8025-01-P